Presidential Determination No. 2005-18 of January 13, 2005

Extension of Waiver of Section 907 of the FREEDOM Support Act with respect to Assistance to the Government of

Azerbaijan

Memorandum for the Secretary of State

Pursuant to the authority contained in title II of the Kenneth M. Ludden Foreign Operations, Export Financing, and Related Programs Appropriations Act, 2002 (Public Law 107-115), I hereby determine and certify that extending the waiver of section 907 of the FREEDOM Support Act of 1992 (Public Law 102-511):

•

is necessary to support United States efforts to counter international terrorism;

•

is necessary to support the operational readiness of United States Armed Forces or coalition partners to counter international terrorism;

•

is important to Azerbaijan's border security; and

•

will not undermine or hamper ongoing efforts to negotiate a peaceful settlement between Armenia and Azerbaijan or be used for offensive purposes against Armenia.

Accordingly, I hereby extend the waiver of section 907 of the FREEDOM Support Act.

You are authorized and directed to notify the Congress of this determination and to arrange for its publication in the Federal Register.

B

THE WHITE HOUSE,

Washington, January 13, 2005.

[FR Doc. 05-1627

Filed 1-26-05; 8:45 am]

Billing code 4710-10-P